FEDERAL DEPOSIT INSURANCE CORPORATION

12 CFR Part 325

RIN 3064-AD91

Annual Stress Test

AGENCY: Federal Deposit Insurance Corporation (FDIC).

ACTION: Proposed rule; extension of comment period.

SUMMARY: On January 23, 2012, the FDIC published in the Federal Register a notice of proposed rulemaking for public comment to implement the requirements in Section 165(i)(2) of the Dodd-Frank Wall Street Reform and Consumer Protection Act (the “Dodd-Frank Act”) ¹ by requiring state nonmember banks and state savings associations supervised by the Corporation with total consolidated assets of more than $10 billion to conduct annual stress tests.

¹ Dodd-Frank Wall Street Reform and Consumer Protection Act, Public Law 111-203, 124 Stat. 1376 (2010).

Due to the scope and complexity of the rulemaking, the FDIC has determined that an extension of the comment period until April 30, 2012, is appropriate. This action will allow interested persons additional time to analyze the proposed rules and to prepare their comments.

DATES: Comments on the proposed rule must be received on or before April 30, 2012.

ADDRESSES: You may submit comments by any of the methods identified in the proposed rule.² Please submit your comments using only one method.

² See 77 FR 3166 (January 23, 2012).

FOR FURTHER INFORMATION CONTACT: George French, Deputy Director, Policy, (202) 898-3929, Robert Burns, Associate Director, Mid-Tier Bank Branch, (202) 898-3905, or Karl R. Reitz, Senior Capital Markets Specialist, (202) 898-6775, Division of Risk Management and Supervision; Mark G. Flanigan, Counsel, (202) 898-7426, or Ryan K. Clougherty, Senior Attorney, (202) 898-3843, Legal Division, Federal Deposit Insurance Corporation, 550 17th Street NW., Washington, DC 20429.

SUPPLEMENTARY INFORMATION: On January 23, 2012, the proposed rule was published in the Federal Register.³ The proposed rule implements section 165(i)(2) of the Dodd-Frank Act which requires the Corporation to issue regulations that require FDIC-insured state nonmember banks and FDIC-insured state-chartered savings associations with total consolidated assets of more than $10 billion (“covered banks”) to conduct annual stress tests (“bank-run stress tests”). The proposed rule defines the term “stress test” for purposes of the regulations; establishes methodologies for the conduct of the stress tests; establishes the form and content of a required report on the stress tests that banks must submit to the Corporation; and requires covered banks to publish a summary of the results of the required stress tests.

³ See id.

In recognition of the complexities of the rulemaking and the variety of considerations involved in its impact and implementation, the FDIC requested that commenters respond to questions in the proposed rule. The proposed rule stated that the public comment period would close on March 23, 2012.⁴

⁴ See id.

The FDIC has received requests from the public for an extension of the comment period. The FDIC believes that it is important to allow parties more time to consider the impact of the proposed rule, and that such an extension will facilitate further public comment on the proposed rule. Therefore, the FDIC is extending the deadline for submitting comments on the proposed rule from March 23, 2012, to April 30, 2012.

Dated at Washington, DC, this 16th day of March 2012.
Federal Deposit Insurance Corporation.
Robert E. Feldman,
Executive Secretary.

[FR Doc. 2012-6799 Filed 3-20-12; 8:45 am]

BILLING CODE 6714-01-P